DEPARTMENT OF COMMERCE

National Oceanic and Atmospheric Administration

RIN 0648-XF694

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Ecosystem and Ocean Planning (EOP) Committee with Advisory Panel (AP) will hold a public meeting.

DATES: The meeting will be held on Friday October 6, 2017. The meeting will begin at 10 a.m. and conclude no later than 3 p.m. The meeting will be held via webinar with a telephone-only connection option. For agenda details, see SUPPLEMENTARY INFORMATION.

ADDRESSES: Information about connecting to this webinar based meeting will be posted on the Council Web site at www.mafmc.org two weeks prior to meeting.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The purpose of the meeting is to review the final list of risk elements to be evaluated by the Council as part of its Ecosystem Approach to Fisheries Management. At this meeting, the EOP Committee and Advisors will provide final rankings of the risk elements that will be communicated to the full Council at its October meeting in Riverhead, NY. Once adopted, the prioritized risk matrix will be used by the Council to inform its future work and scientific research plans.

Dated: September 14, 2017.
Tracey L. Thompson,
Acting Deputy Director, Office of Sustainable Fisheries, National Marine Fisheries Service.

[FR Doc. 2017-19976 Filed 9-19-17; 8:45 am]

BILLING CODE 3510-22-P